DEPARTMENT OF STATE

[Public Notice 8724]

Overseas Security Advisory Council (OSAC) Meeting Notice; Closed Meeting

The Department of State announces a meeting of the U.S. State Department—Overseas Security Advisory Council on June 3 and 4, 2014. Pursuant to Section 10(d) of the Federal Advisory Committee Act (5 U.S.C. Appendix), and 5 U.S.C. 552b(c)(4), and 5 U.S.C. 552b(c)(7)(E), it has been determined that the meeting will be closed to the public. The meeting will focus on an examination of corporate security policies and procedures and will involve extensive discussion of trade secrets and proprietary commercial information that is privileged and confidential, and will discuss law enforcement investigative techniques and procedures. The agenda will include updated committee reports, a global threat overview, and other matters relating to private sector security policies and protective programs and the protection of U.S. business information overseas.

For more information, contact Marsha Thurman, Overseas Security Advisory Council, U.S. Department of State, Washington, DC 20522-2008, phone: 571-345-2214.

Dated: April 25, 2014.
Bill A. Miller,
Director of the Diplomatic, Security Service, U.S. Department of State.

[FR Doc. 2014-10732 Filed 5-8-14; 8:45 am]

BILLING CODE 4710-24-P